DEPARTMENT OF DEFENSE

Office of the Secretary

Meeting of the Defense Advisory Committee on Women in the Services (DACOWITS)

AGENCY: Department of Defense.

ACTION: Notice.

SUMMARY: Pursuant to Section 10(a), Public Law 92-463, as amended, notice is hereby given of a forthcoming meeting of the Defense Advisory Committee on Women in the Services (DACOWITS). The purpose of the meeting is to receive briefings on sexual harassment programs, health issues in combat zone deployments, leadership accountability in the prevention of sexual assault and harassment, and an update on the Women in Services Restrictions report. The meeting is open to the public, subject to the availability of space.

Interested persons may submit a written statement for consideration by the Defense Advisory Committee on Women in the Services. Individuals submitting a written statement must submit their statement to the Point of Contact listed at the address detailed in FOR FURTHER INFORMATION CONTACT no later than 5 p.m., Tuesday, February 28, 2012. If a written statement is not received by Tuesday, February 28, 2012, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services. If members of the public are interested in making an oral statement, a written statement should be submitted. After reviewing the written comments, the Chairperson and the Designated Federal Officer will determine who of the requesting persons will be able to make an oral presentation of their issue during an open portion of this meeting or at a future meeting. Determination of who will be making an oral presentation is at the sole discretion of the Committee Chair and the Designated Federal Officer and will depend on time available and if the topics are relevant to the Committee's activities. Two minutes will be allotted to persons desiring to make an oral presentation. Oral presentations by members of the public will be permitted only on Thursday, March 1, 2012 from 1:45 p.m. to 2:30 p.m. in front of the full Committee. Number of oral presentations to be made will depend on the number of requests received from members of the public.

DATES: March 1, 2011, 8:30 a.m.-2:30 p.m.

ADDRESSES: 801 North Saint Asaph Street Alexandria, Virginia 22314.

FOR FURTHER INFORMATION CONTACT: Mr. Robert Bowling or DACOWITS Staff at 4000 Defense Pentagon, Room 2C548A, Washington, DC 20301-4000. Email: Robert.bowling@osd.mil. Telephone: (703) 697-2122. Fax (703) 614-6233.

SUPPLEMENTARY INFORMATION:

Meeting Agenda

Thursday, March 1, 2012, 8:30 a.m.-2:30 p.m.

—Welcome, introductions, and announcements.

—Briefing—Sexual Harassment Prevention Programs.

—Briefing—Health Issues in Combat Zone Deployments.

—Briefing—Leadership Accountability in Prevention of Sexual Assault and Harassment.

—Briefing—Women in Service Restrictions Report.

—Public Comment Period.

Dated: February 7, 2012.
Aaron Siegel,
Alternate OSD Federal Register Liaison Officer, Department of Defense.

[FR Doc. 2012-3165 Filed 2-9-12; 8:45 am]

BILLING CODE 5001-06-P